DEPARTMENT OF THE INTERIOR

Geological Survey

[GX23DK00GUH0300; OMB Control Number 1028-0118]

Agency Information Collection Activities; USGS Water Use Data and Research Program Announcement

AGENCY: U.S. Geological Survey, Interior.

ACTION: Notice of information collection; request for comment.

SUMMARY: In accordance with the Paperwork Reduction Act of 1995 (PRA), the U.S. Geological Survey (USGS) is proposing to revise an information collection.

DATES: Interested persons are invited to submit comments on or before June 6, 2023.

ADDRESSES: Send your comments on this information collection request (ICR) by mail to USGS, Information Collections Clearance Officer, 12201 Sunrise Valley Drive, MS 159, Reston, VA 20192; or by email to gs-info_collections@usgs.gov. Please reference OMB Control Number 1028-0118 in the subject line of your comments.

FOR FURTHER INFORMATION CONTACT: To request additional information about this ICR, contact Erik A. Smith by email at easmith@usgs.gov, or by telephone at 512-466-8697. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA, 44 U.S.C. 3501 et seq. and 5 CFR 1320.8(d)(1), we provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues:

(1) Is the collection necessary to the proper functions of the USGS;

(2) Will this information be processed and used in a timely manner;

(3) Is the estimate of burden accurate;

(4) How the USGS might enhance the quality, utility, and clarity of the information to be collected; and

(4) How the USGS might minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you may ask us in your comment to withhold your PII from public review, we cannot guarantee that we will be able to do so.

Abstract: The USGS is authorized under SECURE Water Act section 9508 to assist state water-resource agencies with improving their water-use data collection activities. The USGS has implemented the Water Use Data and Research program (WUDR) to work with state water agencies in gathering and analyzing their data and assists this effort via cooperative agreements. The WUDR will work to improve the collection and reporting of water-use categories by state agencies, including categories of water use that were previously discontinued due to limited resources. This collection will be used in reports to Congress on water resources in the Nation. Program authorization is $1,500,000 per year.

Cooperative agreements will be announced and awarded as part of a competitive process that will be guided, annually, by a technical committee whose members will include representatives from the stakeholder community as well as the USGS. WUDR funds will be coordinated with a single agency in each state.

Revision: As part of the ongoing efforts to include the collection and sharing of water use data, a nationwide data-sharing feasibility study of State and Territory agencies that provide water-use information to the USGS will be conducted. This study will investigate the water-use data availability and identify barriers that may prevent State and Territory agencies from sharing water-use data, in particular site-specific water-use data. Example feasibility study questions include the following: (1) whether water-use location data (latitude/longitude for example) is available to the public, and if so, the format of availability to the public (e.g., website, publication, accessible paper files); (2) sharing the water-use data with other agencies, such as the USGS, and any restrictions for sharing data (such as location and/or water quantity); (3) if information on quantities of water used, such as withdrawals, wastewater return, and sales/deliveries between users, is available to the public, and if so, the restrictions on water-quantity data such as categories of use or time intervals.

Collaboration and coordination with USGS personnel will be required as part of the WUDR program. Data must be stored electronically and made available in machine-readable formats that can be incorporated into USGS databases. Additionally, methods used for data collection (estimated values, coefficients, etc.) and a description of data quality assurance and control must be provided to the USGS.

Title of Collection: USGS Water Use Data and Research Program Announcement.

OMB Control Number: 1028-0118.

Form Number: None.

Type of Review: Revision of a currently approved collection.

Respondents/Affected Public: State water-resource agencies that collect water-use data.

Total Estimated Number of Annual Respondents: WUDR estimates that 30 respondents (states) will read the Program Announcement, 12 respondents will submit applications, 10 respondents will submit semi-annual progress reports and a final technical report, and 40 respondents (states) will respond to the water-use data-sharing feasibility study.

Total Estimated Number of Annual Responses: 12 applications; 20 progress reports, 10 final technical reports, 40 respondents to water use data sharing feasibility study.

Estimated Completion Time per Response: Read Program announcement: 1 hour; prepare applications: 40 hours; progress reports: 4 hours; final technical report: 24 hours; water use data sharing feasibility study: 8 hours.

Total Estimated Number of Annual Burden Hours: 1,150 hours.

Respondent's Obligation: Response is required to be eligible to receive funding, but it is voluntary to respond to the water-use data-sharing feasibility study.

Frequency of Collection: Program Announcements are published annually. Proposals are submitted annually by State water-resource agencies wishing to compete for funding through the annual Program Announcement. State water-resource agencies that receive a cooperative agreement must submit semi-annual progress reports and a final technical report. State water-resource agencies that respond to the water-use data-sharing feasibility study will only need to respond once with potential clarification questions on study responses.

Total Estimated Annual Nonhour Burden Cost: None.

An agency may not conduct or sponsor, nor is a person required to respond to, a collection of information unless it displays a currently valid OMB control number.

The authority for this action is the PRA (44 U.S.C. 3501 et seq.).

Cory Angeroth,
Deputy Program Coordinator, on behalf of Melinda Dalton, Program Coordinator, USGS Water Availability and Use Science Program.

[FR Doc. 2023-07303 Filed 4-6-23; 8:45 am]

BILLING CODE P